DEPARTMENT OF TRANSPORTATION

Federal Aviation Administration

14 CFR Part 39

[Docket No. FAA-2011-0506; Directorate Identifier 2010-SW-020-AD; Amendment 39-16703; AD 2011-11-04]

RIN 2120-AA64

Airworthiness Directives; L'Hotellier Portable Halon 1211 Fire Extinguishers

AGENCY: Federal Aviation Administration, DOT.

ACTION: Final rule; request for comments.

SUMMARY: This amendment adopts a new airworthiness directive (AD) for the specified fire extinguishers. This action requires replacing each unairworthy portable fire extinguisher with an airworthy portable fire extinguisher. This amendment is prompted by an ongoing investigation that has established that unapproved Halon 1211 has been used to fill L'Hotellier portable fire extinguishers that are likely to be onboard various model helicopters. The actions specified in this AD are intended to prevent using contaminated gas that may reduce fire suppression and release toxic fumes that would endanger the safety of the helicopter and its occupants.

DATES: Effective June 17, 2011.

Comments for inclusion in the Rules Docket must be received on or before August 1, 2011.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from L'HOTELLIER, 4 rue Henri Poincare, 92167 ANTONY Cedex, France, telephone +33(0)1 55 59 09 65, fax +33(0)1 46 66 71, E-mail Alain.Dorneau@hs.utc.com.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: DOT/FAA Southwest Region, J. R. Holton, Jr., ASW-112, Aviation Safety Engineer, Rotorcraft Directorate, Safety Management Group, 2601 Meacham Blvd., Fort Worth, Texas 76137, telephone (817) 222-4964, fax (817) 222-5961.

SUPPLEMENTARY INFORMATION:

Discussion

This amendment adopts a new AD for the specified fire extinguisher. This action requires replacing each portable fire extinguisher containing unapproved, contaminated Halon 1211 with a portable fire extinguisher containing approved Halon 1211. This amendment is prompted by an ongoing investigation that has established that unapproved Halon 1211 has been used to fill L'Hotellier portable fire extinguishers that are likely to be onboard various model helicopters. This condition, if not corrected, may reduce fire suppression and release toxic fumes that would endanger the safety of the helicopter and its occupants.

The European Aviation Safety Agency (EASA), which is the Technical Agent for the Member States of the European Community, has issued EASA AD No. 2009-0277R1, dated February 5, 2010, to correct an unsafe condition for L'Hotellier portable fire extinguishers, part number (P/N) 863520-00. EASA reports that the Civil Aviation Authority of the United Kingdom (UK) has informed them that significant quantities of Halon 1211 gas, determined to be outside the required specification, have been supplied to the aviation industry for use in fire extinguishers. Halon 1211 is used in portable fire extinguishers, usually fitted or stowed in aircraft passenger cabins and flight decks. An ongoing investigation has established that LyonTech Engineering Ltd, a UK-based company, has supplied unapproved Halon 1211 to L'Hotellier. This Halon 1211 has subsequently been used to fill certain portable fire extinguishers that are likely to be installed in or carried on various model helicopters including Eurocopter France Model EC120B; AS350B, BA, B1, B2, B3, and D; AS355E, F, F1, N, and NP; and SA341G and 342J helicopters, with a portable fire extinguisher, P/N 863520-00, with a serial-number listed in the L'Hotellier service information.

Related Service Information

L'Hotellier has issued Service Bulletin 863520-26-001, dated December 21, 2009 (SB). The SB specifies returning each affected serial-numbered fire extinguisher to L'Hotellier. The SB also specifies that if a label containing, among other information, “Application of SBA 863520-26-001” is installed on a fire extinguisher, indicating that it has been reconditioned with pure Halon 1211 according to L'Hotellier internal procedure ITR70030-00, that reconditioned or new fire extinguisher can be placed in the helicopter. EASA classified this SB as mandatory and issued EASA AD No. 2009-0277R1, dated February 5, 2010, to ensure the continued airworthiness of these helicopters.

FAA's Evaluation and Unsafe Condition Determination

These products have been approved by the aviation authority of France and are approved for operation in the United States. Pursuant to our bilateral agreement with France, EASA, their technical representative, has notified us of the unsafe condition described in the MCAI AD. We are issuing this AD because we evaluated all information provided by EASA and determined the unsafe condition exists and is likely to exist or develop on other products of these same type designs.

Differences Between This AD and the EASA AD

We require a 60-day compliance time because we have determined that 60 days will ensure an acceptable level of safety versus allowing a 6-month compliance time. We have included the affected serial numbers of the fire extinguishers in the AD rather than referring to the SB for the serial numbers.

FAA's Determination and Requirements of This AD

This unsafe condition is likely to exist or develop on other helicopters of these same type designs. Therefore, this AD is being issued to replace unairworthy fire extinguishers with airworthy fire extinguishers to prevent using contaminated gas that may reduce fire suppression and release toxic fumes that would endanger the safety of the helicopter and its occupants.

The short compliance time involved is required because the previously described critical unsafe condition can adversely affect the controllability and structural integrity of the helicopter in the event of a fire. Therefore, replacing each unairworthy fire extinguisher with an airworthy fire extinguisher is required within 60 days, and this AD must be issued immediately.

Since a situation exists that requires the immediate adoption of this regulation, it is found that notice and opportunity for prior public comment hereon are impracticable, and that good cause exists for making this amendment effective in less than 30 days.

Costs of Compliance

We estimate that this AD will affect about 1,000 helicopters. We also estimate that it will take about 1work-hour per helicopter to inspect and replace the fire extinguisher. The average labor rate is $85 per work-hour. Required parts will cost about $212 to replace each fire extinguisher. Based on these figures, we estimate the cost of this AD on U.S. operators is $297,000, assuming the fire extinguishers are replaced on the estimated fleet.

Comments Invited

This AD is a final rule that involves requirements that affect flight safety and was not preceded by notice and an opportunity for public comment; however, we invite you to submit any written data, views, or arguments regarding this AD. Send your comments to an address listed under ADDRESSES. Include “Docket No. FAA-2011-0506; Directorate Identifier 2010-SW-020-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of the docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2011-11-04 L'Hotellier: Amendment 39-16703. Docket No. FAA-2011-0506; Directorate Identifier 2010-SW-020-AD.

Applicability: Portable Halon 1211 fire extinguisher, part number 863520-00, with a serial number listed in Table 1 of this AD, installed on various model helicopters including Eurocopter France Model EC120B; AS350B, BA, B1, B2, B3, and D; AS355E, F, F1, N, and NP; and SA341G or 342J helicopters, certificated in any category, except for a fire extinguisher that has a label containing a reference to “SBA 863520-26-001” indicating that it has been reconditioned with pure Halon 1211 according to L'Hotellier internal procedure ITR70030-00.

Table 1
From S/N with a prefix of “RM” | Through S/N with a prefix of “RM” | Quantity
69308 | 69355 | 48
69540 | 69599 | 60
69601 | 69674 | 74
69812 | 69867 | 56
69888 | 69952 | 65
70177 | 70271 | 95
70273 | 70302 | 30
70457 | 70555 | 99
70734 | 70752 | 19
70860 | 70883 | 24
70959 | 71034 | 76
71034 | 71185 | 152
71355 | 71385 | 31
71581 | 71619 | 39
71652 | 71690 | 39

Compliance: Required as indicated, unless accomplished previously.

The actions specified in this AD are intended to prevent using contaminated gas that may reduce fire suppression and release toxic fumes that would endanger the safety of the helicopter and its occupants.

(a) Within 60 days, replace each unairworthy fire extinguisher with an airworthy fire extinguisher.

Note 1: L'Hotellier Service Bulletin 863520-26-001, dated December 21, 2009, contains information that relates to the subject of this AD.

(b) To request a different method of compliance or a different compliance time for this AD, follow the procedures in 14 CFR 39.19. Contact the Manager, Safety Management Group, ATTN: DOT/FAA Southwest Region, J.R. Holton, Jr., ASW-112, Aviation Safety Engineer, Rotorcraft Directorate, Safety Management Group, 2601 Meacham Blvd., Fort Worth, Texas 76137, telephone (817) 222-4964, fax (817) 222-5961, for information about previously approved alternative methods of compliance. deactivated.

(c) The Joint Aircraft System/Component (JASC) Code is 2622: Fire Bottle, Portable.

(d) This amendment becomes effective on June 17, 2011.

Note 2: The subject of this AD is addressed in European Aviation Safety Agency AD No. 2009-0277R1, dated February 5, 2010.

Issued in Fort Worth, Texas, on May 11, 2011.
Kim Smith,
Manager, Rotorcraft Directorate, Aircraft Certification Service.

[FR Doc. 2011-13635 Filed 6-1-11; 8:45 am]

BILLING CODE 4910-13-P